DEPARTMENT OF DEFENSE

Office of the Secretary

Renewal of Department of Defense Federal Advisory Committees

AGENCY: DoD.

ACTION: Renewal of Federal Advisory Committee.

SUMMARY: The Department of Defense is publishing this notice to announce that it is renewing the charter for the Defense Advisory Committee on Military Personnel Testing (“the Committee”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Committee is a discretionary Federal advisory committee that shall provide the Secretary of Defense, through the Under Secretary of Defense for Personnel and Readiness (USD(P&R)), with assistance and independent advice on matters pertaining to military personnel testing for enlisted selection and classification.

The Committee shall report to the Secretary of Defense and the Deputy Secretary of Defense through the USD(P&R). The USD(P&R) may act upon the Committee's advice and recommendations.

The committee shall review the calibration of personnel selection and classification tests to ensure accuracy of resulting scores, review relevant validations studies to ensure that tests have utility in predicting success in technical and on-the-job training, review on-going testing research and development in support of the enlistment program, and make recommendations to improve the testing process so that it is more responsive to the needs of the DoD and the Military Services.

The DoD, through the Office of the USD(P&R), shall provide support, as deemed necessary, for the Committee's performance and functions, and shall ensure compliance with the requirements of the FACA, the Sunshine Act, governing Federal statutes and regulations, and established DoD policies and procedures.

The Committee shall be comprised of no more than seven members who are eminent authorities in the fields of educational and psychological testing.

Committee members appointed by the Secretary of Defense or the Deputy Secretary of Defense, who are not full-time or permanent part-time Federal employees, shall be appointed as experts and consultants under the authority of 5 U.S.C. 3109 to serve as special government employee (SGE) members. Committee members who are full-time or permanent part-time Federal employees, shall be appointed pursuant to 41 CFR 102-3.130(a), as regular government employee (RGE) members. Committee members shall serve a term of service of one-to-four years, as determined by the Secretary or Deputy Secretary of Defense, with annual renewals. Pursuant to DoD policy, no member of the Committee will serve more than two consecutive terms of service unless otherwise authorized by the Secretary or Deputy Secretary of Defense. This same term of service limitation also applies to any DoD authorized subcommittees. All Committee members will be reimbursed for travel and per diem as it pertains to official business of the Committee. Committee members will serve without compensation. The Secretary or Deputy Secretary of Defense shall select and appoint the Committee's chair from the total membership for a two-year term of service with annual renewals.

DoD, when necessary, and consistent with the Committee's mission and DoD policies and procedures, may establish subcommittees, task groups, and working groups to support the Committee. Establishment of subcommittees will be based upon a written determination, to include terms of reference, by the Secretary of Defense, the Deputy Secretary of Defense, or the DoD sponsor.

Such subcommittees shall not work independently of the Committee, and shall report all their recommendations and advice solely to the Committee for full and open deliberation and discussion. Subcommittees, task forces, or working groups have no authority to make decisions and recommendations, verbally or in writing, on behalf of the Committee. No subcommittee or any of its members update or report, verbally or in writing, on behalf of the Committee, directly to the DoD or any Federal officers or employees.

All subcommittee members will be appointed in the same manner as Committee members; that is, the Secretary of Defense or the Deputy Secretary of Defense will appoint subcommittee members to a term of service of one-to-four years, even if the member in question is already a member of the Committee. Subcommittee members shall not serve more than two consecutive terms of service unless authorized by the Secretary of Defense or the Deputy Secretary of Defense.

Subcommittee members, if not full-time or part-time Federal employees, will be appointed as experts and consultants, under the authority of 5 U.S.C. 3109, to serve as SGE members, whose appointments must be renewed on an annual basis. Subcommittee members who are full-time or permanent part-time Federal employees, shall be appointed pursuant to 41 CFR 102-3.130(a), as RGE members. With the exception of reimbursement of official travel and per diem related to the committee or its subcommittees, subcommittee members shall serve without compensation. All subcommittees operate under the provisions of FACA, the Sunshine Act, governing Federal statutes and regulations, and established DoD policies and procedures.

The Committee shall meet at the call of the Committee's Designated Federal Officer (DFO), in consultation with the Committee's chair. The estimated number of Committee meetings is two per year.

The Committee's DFO pursuant to DoD policy, shall be a full-time or permanent part-time DoD employee and shall be appointed in accordance with established DoD policies and procedures. The Committee's DFO is required to be in attendance at all meetings of the Committee and its subcommittees for the entire duration of each and every meeting. However, in the absence of the Committee's DFO, a properly approved Alternate DFO, duly appointed to the Committee according to established DoD policies and procedures, shall attend the entire duration of all of the meetings of the Committee and its subcommittees.

The DFO, or the Alternate DFO, shall call all of the Committee and its subcommittees; prepare and approve all meeting agendas; and adjourn any meeting, when the DFO, or the Alternate DFO, determines adjournment to be in the public interest or required by governing regulations or DoD policies and procedures; and chair meetings when directed to do so by the USD(P&R). Pursuant to 41 CFR 102-3.105(j) and 102-3.140, the public or interested organizations may submit written statements to Defense Advisory Committee on Military Personnel Testing membership about the Committee's mission and functions. Written statements may be submitted at any time or in response to the stated agenda of planned meeting of Defense Advisory Committee on Military Personnel Testing.

All written statements shall be submitted to the DFO for the Defense Advisory Committee on Military Personnel Testing, and this individual will ensure that the written statements are provided to the membership for their consideration. Contact information for the Defense Advisory Committee on Military Personnel Testing DFO can be obtained from the GSA's FACA Database— http://www.facadatabase.gov/.

The DFO, pursuant to 41 CFR 102-3.150, will announce planned meetings of the Defense Advisory Committee on Military Personnel Testing. The DFO, at that time, may provide additional guidance on the submission of written statements that are in response to the stated agenda for the planned meeting in question.

Dated: April 14, 2014.
Aaron Siegel,
Alternate OSD Federal Register Liaison Officer, Department of Defense.

[FR Doc. 2014-08775 Filed 4-16-14; 8:45 am]

BILLING CODE 5001-06-P